Proclamation 9655 of October 6, 2017

National Manufacturing Day, 2017

By the President of the United States of America

A Proclamation

America's manufacturers have laid the foundation for our Nation's vibrant economy and have secured our reputation as an economic superpower. Our manufacturing products consistently set the global standard for design and quality. American manufacturing has been enduringly successful because it is the potent combination of the two great pillars of the American economy: the American entrepreneur and the American worker. The American entrepreneur is renowned throughout the world for a steadfast determination to deliver value and innovation to the global marketplace. The American worker has consistently demonstrated the unique and precious ability to harness unmatched work ethic and ingenuity and turn visions and dreams into reality. On National Manufacturing Day, we celebrate the American manufacturers and their workers who drive our economy, strengthen our national security, and give meaning to the famous phrase, “Made in the USA.” We also highlight the many new and exciting opportunities for future generations to create the next wave of world-class American products.

Today's American manufacturers are consistently finding new ways to incorporate advanced technology into the traditional assembly line to produce previously unfathomable breakthroughs in areas like aerospace, medicine, and computers. These manufacturers are writing their chapter into the story of American innovation, while providing countless job opportunities to machinists, designers, computer programmers, and engineers, among others. In 2016, manufacturing contributed more than 11 percent to our gross domestic product and employed more than 12 million workers. The American manufacturers of the 21st century employ innovative minds equipped with problem-solving skills and knowledge steeped in science, technology, engineering, and mathematics, to build their incredible products. It is no surprise, then, that manufacturing workers earn higher annual salaries, on average, than similar workers employed in other sectors.

For too long, we have taken manufacturing, which represents the pioneering, hard-working American spirit, for granted. Due to government neglect and inaction we have witnessed our Nation's manufacturers move their jobs and innovation overseas. Remarkably, we have stood by as our outdated tax system has required job-creators to put their money toward tax preparation and a bloated government, rather than into new jobs and innovations. It has also trapped earnings that could be invested in America, and instead encouraged corporations to invest overseas. Our business tax rate is currently 60 percent higher than that of our average foreign competitor in the developed world. By contrast, my tax plan would lower the tax rate for businesses, so they can stay and do business here and bring back profits invested abroad. Careless and unfair trade deals are also at fault for the diminished state of American manufacturing today. These deals have severely disadvantaged American exports. My Administration, however, will right these wrongs and ensure a level playing field for American manufacturing going forward. Our manufacturers and workers deserve no less. American drive, ingenuity, and innovation will ultimately win, and our great manufacturing sector will thrive once again.

NOW, THEREFORE, I, DONALD J. TRUMP, President of the United States of America, by virtue of the authority vested in me by the Constitution and the laws of the United States, do hereby proclaim October 6, 2017, as National Manufacturing Day. I call upon all Americans to celebrate the entrepreneurs and workers in manufacturing who are making our communities strong.

IN WITNESS WHEREOF, I have hereunto set my hand this sixth day of October, in the year of our Lord two thousand seventeen, and of the Independence of the United States of America the two hundred and forty-second.

[FR Doc. 2017-22420

Filed 10-12-17; 11:15 am]

Billing code 3295-F8-P